FEDERAL RESERVE SYSTEM

Notices of Proposals to Engage in Permissible Nonbanking Activities or to Acquire Companies that are Engaged in Permissible Nonbanking Activites; Correction

This notice corrects a notice (FR Doc. 05-18466) published on pages 54746-54747 of the issue for Friday, September 16, 2005.

Under the Federal Reserve Bank of New York heading, the entry for Commonwealth Bank of Australia, Sydney, Australia, is revised to read as follows:

A. Federal Reserve Bank of New York (Jay Bernstein, Bank Supervision Officer) 33 Liberty Street, New York, New York 10045-0001:

1. Commonwealth Bank of Australia, Sydney, Australia; to engage de novo through its subsidiary, CommSec LLC, New York, New York, in securities brokerage, private placement services, and other transactional services, pursuant to sections 225.28(b)(7)(i), (b)(7)(iii), and (b)(7)(v) of Regulation Y.

Comments on this application must be received by October 3, 2005.

Board of Governors of the Federal Reserve System,September 19, 2005.
Robert deV. Frierson,
Deputy Secretary of the Board.

[FR Doc. 05-19032 Filed 9-22-05; 8:45 am]

BILLING CODE 6210-01-S